DEPARTMENT OF THE INTERIOR

National Park Service

Environmental Assessment for Proposal To Construct Odor Treatment Units for the Potomac Interceptor Sewer and Improvements to a Parking Area and Two New Comfort Stations for the C&O Canal National Historical Park

AGENCY: National Park Service, Interior.

ACTION: Availability of the Environmental Assessment for the proposal to construct odor treatment units for the Potomac Interceptor sewer and improvements to a parking area and two new comfort stations for the C&O Canal National Historical Park.

SUMMARY: Pursuant to Council on Environmental Quality regulations and National Park Service policy, the National Park Service announces the availability of an Environmental Assessment for the construction of four odor treatment units for the Potomac Interceptor (PI) sewer and improvements to a parking area and two new comfort stations for the C&O Canal National Historical Park (CHOH). In public use areas along the CHOH and the Clara Barton Parkway (which is administered by the George Washington Memorial Parkway (GWMP)), odorous air is intermittently exhausted from the PI sewer due to several dynamic hydraulic changes in the PI. Sewer odors emitted from the PI have resulted in the completion of an odor study, the implementation of interim odor controls, and the development of the long-term odor abatement program for several areas of the PI. This Environmental Assessment examines several alternatives for implementing four odor control facilities to control nuisance odors along the CHOH and the Clara Barton Parkway, as well as to indicate environmental impacts of the proposed construction of two comfort stations in CHOH access areas, and to improve the parking area at the Anglers Inn C&O Canal access area. The National Park Service is soliciting comments on this Environmental Assessment. These comments will be considered in evaluating it and making decisions pursuant to the National Environmental Policy Act (NEPA).

DATES: The Environmental Assessment will remain available for public comment on or before October 11, 2002. Written comments should be received no later than this date. A public meeting will be scheduled at the Glen Echo Community Center during the public comment period to provide responses to public concerns in an open forum setting.

ADDRESSES: Comments on this Environmental Assessment should be submitted in writing to: Mr. Douglas Faris, Superintendent, C&O Canal National Historical Park, 1850 Dual Highway, Suite 100, Hagerstown, Maryland, 21740. The Environmental Assessment will be available for public inspection Monday through Friday, 8 a.m. through 4 p.m. at the Great Falls Tavern, Great Falls Maryland; Georgetown Visitors Center, Washington, DC; CHOH Headquarters, 1850 Dual Highway, Suite 100, Hagerstown, MD; Great Falls Park Visitor Center, Great Falls Virginia; Clara Barton House, Glen Echo, MD; GWMP Headquarters, Turkey Run Park, McLean, VA; and at the following libraries; Little Falls Library, Bethesda, MD; Potomac Library, Potomac, MD; Palisades Library, Washington, DC; Dolley Madison Library, McLean, VA; Great Falls Library, Great Falls, VA; Fairfax City Regional Library, Fairfax, VA; Sterling Library, Sterling, VA; and Eastern Loudoun Library, Sterling, VA. The Environmental Assessment will also be made available in electronic format for downloading at the project Web site, http://www.potomacinterceptor.com/whatsnew.html.

SUPPLEMENTARY INFORMATION: The National Park Service proposes to permit the District of Columbia Water and Sewer Authority to construct four odor treatment units along the CHOH and the Clara Barton Parkway, and to construct two new comfort stations for the CHOH at Fletchers Boathouse (Site 1995) and at the Anglers Inn C&O Canal access area (Site 27). In addition, the CHOH plans to provide improvements to the parking areas at the Anglers Inn C&O Canal access area (Site 27). The objectives of the proposed actions include:

• Providing long-term control of odors in specific areas of the PI by a practical, reliable and effective means;

• Maintaining the integrity of the reinforced concrete sewer pipes by minimizing interference with the design function of the PI vent structures and PI sewer airflow dynamics thereby limiting the formation of corrosive conditions;

• Protect the public health with the adequate conveyance of wastewater in the PI system to the Blue Plains Advanced Wastewater Treatment Plant, by maintaining the satisfactory condition of the PI for many decades to come;

• Providing safe vehicular access to the Site 27 parking area, and to improve the restroom facilities currently located at Site 27 and 1995 for the benefit of CHOH visitors.

All interested individuals, agencies, and organizations are urged to provide comments on the Environmental Assessment. The National Park Service, in making a final decision regarding this matter, will consider all comments received by the public comment period closing date.

FOR FURTHER INFORMATION CONTACT: Mr. Douglas Faris, (301) 714-2201.

Douglas D. Faris,
Superintendent, C&O Canal National Historical Park.

[FR Doc. 02-23011 Filed 9-10-02; 8:45 am]

BILLING CODE 4310-70-P